DEPARTMENT OF HEALTH AND HUMAN SERVICES

National Institutes of Health

Prospective Grant of an Exclusive Patent License: Engineered Tumor Infiltrating Lymphocytes for Cancer Therapy; Correction

AGENCY: National Institutes of Health, HHS.

ACTION: Notice; correction.

SUMMARY: The Department of Health and Human Services, National Institutes of Health published a Notice in the Federal Register on February 25, 2021. That Notice requires a correction in the SUPPLEMENTARY INFORMATION section.

SUPPLEMENTARY INFORMATION:

Correction

In the Federal Register of February 25, 2021, in FR Doc. 2021-03873, on page 11548, as found within the Supplementary Information section, correct to read:

The use of the Licensed Patent Rights to develop, manufacture, distribute, sell, and use autologous tumor infiltrating lymphocyte (TIL) adoptive cell therapy products for the treatment of metastatic melanoma, lung, breast, bladder, and HPV-positive cancers. Specifically excluded from this Agreement are cell therapy products involving TIL genetically modified for reactivity against cancer-specific mutations or TIL selected for reactivity against cancer-specific mutations, unless such cell therapy products are a combination of unselected, unmodified TIL therapy with the Licensee's proprietary technologies or the Licensee's in-licensed technologies.

The field of use described in the Notice was found to be incorrect. The correction addresses this discrepancy by accurately stating the field of use which the NIH intends to grant to Iovance Biotherapeutics, Inc for the disclosed federally owned invention.

ADDRESSES: Requests for copies of the patent applications, inquiries, and comments relating to the contemplated Exclusive Patent License should be directed to: Andrew Burke, Ph.D., Senior Technology Transfer Manager, NCI Technology Transfer Center, Telephone: (240)-276-5484; Email: andy.burke@nih.gov.

Dated: March 9, 2021.
Daniel R Hernandez,
Federal Register Officer, National Institutes of Health.

[FR Doc. 2021-05272 Filed 3-12-21; 8:45 am]

BILLING CODE 4140-01-P